DEPARTMENT OF LABOR

Occupational Safety and Health Administration

[Docket No. ICR-1218-0150(2002)]

Standard on the Control of Hazardous Energy sources (Lockout/Tagout) (29 CFR 1910.147); Extension of the Office of Management and Budget's (OMB) Approval of Information-Collection (Paperwork) Requirements

AGENCY: Occupational Safety and Health Administration (OSHA), Labor.

ACTION: Request for comment.

SUMMARY: OSHA solicits comment concerning its proposal to decrease the existing burden-hour estimates for, and to extend OMB approval of, the information-collection requirements of the Standard on the Control of Hazardous Energy Sources (Lockout/Tagout) (29 CFR 1910.147)¹ This standard regulates control of hazardous energy sources using lockout or tagout procedures while employees service, maintain, or repair machines or equipment if activation, start up, or release of energy from the energy source is possible. The paperwork requirements of the standard specify that employers must ensure that employees use these energy-control procedures effectively and safely, thereby preventing death and serious injury caused by uncontrolled release of hazardous energy.

¹ Based on its assessment of the paperwork requirements contained in this standard, the Agency estimates that the total burden hours decreased compared to its previous burden-hour estimate. Under this notice, OSHA is not proposing to revise these paperwork requirements in any substantive manner, only to decrease its estimate of the burden hours imposed by the existing paperwork requirements.

DATES: Submit written comments on or before February 26, 2002.

ADDRESSES: Submit written comments to the Docket Office, Docket No. ICR-1218-0150(2002), OSHA, U.S. Department of Labor, Room N-2625, 200 Constitution Avenue, NW., Washington, DC 20210; telephone (202) 693-2350. Commenters may transmit written comments of 10 pages or less by facsimile to (202) 693-1648.

FOR FURTHER INFORMATION CONTACT: Theda Kenney, Directorate of Safety Standards Programs, OSHA, U.S. Department of Labor, Room N-3609, 200 Constitution Avenue, N.W., Washington, DC 20210; telephone (202) 693-2222. A copy of the Agency's Information-Collection Request (ICR) supporting the need for the information collections specified by the standard is available for inspection and copying in the Docket Office, or by requesting a copy from Theda Kenney at (202) 693-2222, or Todd Owen at (202) 693-2444. For electronic copies of the ICR, contact OSHA on the Internet at http://www.osha.gov, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are understandable, and OSHA's estimate of the information-collection burden is correct.

OSHA's Standard on the Control of Hazardous Energy (Lockout/Tagout) (29 CFR 1910.147; the “Standard”) contains the following paperwork requirements:

• Paragraph (c)(4). Employers must document the procedures used to isolate from its energy source, and render inoperative, any machine or equipment prior to servicing, maintenance, or repair by employees. These procedures are necessary if activation, start up, or release of stored energy from the energy source is possible, and such release could cause injury to the employees. The required documentation must clearly and specifically outline the scope, purpose, authorization, rules, and techniques employees are to use to control hazardous energy, and the means to enforce compliance, and include a number of elements specified by this paragraph.

The employer will use the information in this document as the basis for informing and training employees about the purpose and function of the energy-control procedures, and the safe application, use, and removal of energy controls. In addition, this information enables employers to effectively identify operations and processes in the workplace that require energy-control procedures.

• Paragraph (c)(6)(ii). The Standard requires employers to conduct inspections of energy-control procedures at least annually. An authorized employee (other than an authorized employee using the energy-control procedure that is the subject of the inspection) is to conduct the inspection and correct any deviations or inadequacies identified. For procedures involving either lockout or tagout, the inspection must include a review, between the inspector and each authorized employee, of that employee's responsibilities under the procedure; for procedures using tagout systems, the review is to assess the employee's knowledge of the training elements required for these systems. Under paragraph (c)(6)(ii), employees must certify the inspection by documenting the date of the inspection, and identifying the machine or equipment inspected and the employee who performed the inspection.

The inspection records provide employers with assurance that employees can safely and effectively service, maintain, and repair machines and equipment covered by the Standard. These records also provide the most efficient means for an OSHA compliance officer to determine that an employer is complying with the Standard, and that the machines and equipment are safe for servicing, maintenance, and repair.

• Paragraph (c)(7)(iv). Under this paragraph, employers must certify that employees completed the required training, and that this training is up-to-date; the certification is to contain each employee's name and the training date. The training program is to enable employees to understand the purpose and function of the energy-control procedures, and provides them with the knowledge and skills necessary for the safe application, use, and removal of energy controls. It specifies a number of elements that employers are to include in the training program for authorized and affected employees, and other employees who work, or may work, near operations using the energy-control procedure. If the employer uses a tagout system, the training program must inform employees of the limitations of tagging systems specified by the Standard. Employers must retrain authorized and affected employees if: A change occurs in their job assignments, the machines, equipment, or processes such that a new hazard is present; the employer revises the energy-control procedures; employers have reason to believe, or the periodic inspection required under paragraph (c)(6) indicates, that deviations and inadequacies exist in an employee's knowledge or use of energy-control procedures.

Training provides employees with the knowledge and skills necessary for implement safe application, use, and removal of energy controls, and enables them to prevent serious accidents by using appropriate control procedures in a safe manner to isolate these hazards. In addition, written certification of the training assures the employer that employees receive the training specified by the Standard, and that retraining occurs as necessary. These records also provide the most efficient means for an OSHA compliance officer to determine whether or not an employer performed the required training at the necessary and appropriate frequencies.

• Paragraph (c)(9). This provision requires the employer or authorized employee to notify affected employees prior to applying, and after removing, a lockout or tagout device from a machine or equipment. Such notification informs employees of the impending interruption of the normal production operation, and serves as a remainder of the restrictions imposed on them by the energy-control program. In addition, this requirement ensures that employees do not attempt to reactivate a machine or piece of equipment after an authorized employees isolated its energy source and rendered it inoperative. Notifying employees after removing an energy-control device alerts them that the machines and equipment are no longer safe for servicing, maintenance, and repair.

• Paragraph (f)(2). If an onsite employer uses an offsite employer (e.g., contractor) to perform the activities covered by the scope and application of the Standard, the two employers must inform each other regarding their respective lockout or tagout procedures. Onsite employers must ensure their employees understand and comply with the restrictions and prohibitions of the offsite employers' energy-control programs. This provision provides employees of onsite employers with information about the unique energy-control procedures used by an offsite employer; this information prevents any misunderstanding by either plant employees or outside service personnel regarding the use of lockout or tagout procedures in general, and the use of specific lockout or tagout devices selected or a particular application.

II. Special Issues for Comment

OSHA has a particular interests in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA is proposing to decrease the existing burden-hour estimate for, and to extend OMB's approval of, the paperwork requirements specified by the Standard. The Agency is proposing to reduce the total burden-hour estimate from 1,236,149 hours to 1,109,637 hours, a total decrease of 126,512 hours. This decrease in burden hours results in large part from reducing the number of establishments required to update energy-control programs and to inspect energy-control procedures. In addition, capital costs are rising from $0 to $14,582,134 because OSHA is accounting for the cost of purchasing new, and replacing worn or damaged, locks and tags, as well as replacing the means of attaching tags to an energy source (e.g., nylon cable ties). The Agency will summarize the comments submitted in response to this notice, and will include this summary in its request to OMB to extend the approval of these information-collection requirements.

Type of Review: Extension of a currently-approved information-collection requirement.

Title: Standard on the Control of Hazardous Energy Sources (Lockout/Tagout) (29 CFR 1910.147).

OMB Number: 1218-0150.

Affected Public: Business or other for-profit; Not-for-profit institutions; Federal government; State, local, or tribal governments.

Number of Respondents: 2,351,014.

Frequency of Recordkeeping: On occasion; annually; other (initially).

Average Time per Response: Varies from five seconds (.001 hour) to notify an employer after removing a lockout or tagout device, to two and one-half hours (2.50 hours) to develop and document an energy-control procedure.

Total Annual Hours Requested: 1,109,637.

Total Annual Costs (O&M): $14,582,134.

IV. Authority and Signature

John L. Henshaw, Assistant Secretary of Labor for Occupational Safety and Health, directed the preparation of this notice. The authority for this notice is the Paperwork Reduction Act of 1995 (44 U.S.C. 3506), and Secretary of Labor's Order No. 3-2000 (62 FR 50017).

Signed at Washington, DC, on December 21th, 2001.
John L. Henshaw,
Assistant Secretary of Labor.

[FR Doc. 01-31964 Filed 12-27-01; 8:45 am]

BILLING CODE 4510-26-M